COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: December 09, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) are proposed for deletion from the Procurement List:

Product(s)

NSN(s)—Product Name(s):

7510-01-579-9319—Binder, Removable Slant-D Rings, 100% Recyclable, Turned Edge, Black, 3″ Capacity, Letter

7510-01-579-9325—Binder, Removable Slant-D Rings, 100% Recyclable, Turned Edge, Blue, 3″ Capacity, Letter

7510-01-579-9324—Binder, Removable Slant-D Rings, 100% Recyclable, Turned Edge, Blue, 2″ Capacity, Letter

7510-01-579-9317—Binder, Removable Slant-D Rings, 100% Recyclable, Turned Edge, Black, 2″ Capacity, Letter

Designated Source of Supply: South Texas Lighthouse for the Blind, Corpus Christi, TX

Contracting Activity: STRATEGIC ACQUISITION CENTER, FREDERICKSBURG, VA

NSN(s)—Product Name(s):

7510-01-579-9319—Binder, Removable Slant-D Rings, 100% Recyclable, Turned Edge, Black, 3″ Capacity, Letter

7510-01-579-9325—Binder, Removable Slant-D Rings, 100% Recyclable, Turned Edge, Blue, 3″ Capacity, Letter

7510-01-579-9324—Binder, Removable Slant-D Rings, 100% Recyclable, Turned Edge, Blue, 2″ Capacity, Letter

7510-01-579-9317—Binder, Removable Slant-D Rings, 100% Recyclable, Turned Edge, Black, 2″ Capacity, Letter

Designated Source of Supply: South Texas Lighthouse for the Blind, Corpus Christi, TX

Contracting Activity: GSA/FAS ADMIN SVCS ACQUISITION BR(2, NEW YORK, NY

Michael R. Jurkowski,
Acting Director, Business Operations.

[FR Doc. 2023-24789 Filed 11-8-23; 8:45 am]

BILLING CODE 6353-01-P